DEPARTMENT OF HEALTH AND HUMAN SERVICES

Centers for Disease Control and Prevention

Notice of Award of a Single-Source Cooperative Agreement To Fund Servicos Provinciais de Saúde de Zambezia (SPS Zambezia), Mozambique

AGENCY: Centers for Disease Control and Prevention (CDC), Department of Health and Human Services (HHS).

ACTION: Notice.

SUMMARY: The Centers for Disease Control and Prevention (CDC), located within the Department of Health and Human Services (HHS), announces the award of approximately $2,000,000 for Year 1 of funding to the Servicos Provinciais de Saúde de Zambezia (SPS Zambezia), Mozambique. The award will strengthen the institutional capacity of SPS Zambezia to plan, coordinate, and supervise HIV-related activities to contribute to accelerated progress towards the 95-95-95 goals (95% of HIV-positive individuals knowing their status, 95% of those receiving ART [Antiretroviral therapy], and 95% of those achieving viral suppression) and ensure sustainable control of the epidemic in Mozambique. Funding amounts for years 2-5 will be set at continuation.

DATES: The period for this award will be September 30, 2022 through September 29, 2027.

FOR FURTHER INFORMATION CONTACT: Meghan Duffy, Center for Global Health, Centers for Disease Control and Prevention, U.S. Embassy Maputo, Avenida Marginal nr 5467, Sommerschield, Distrito Municipal de KaMpfumo Caixa Postal 783 CEP 0101-11 Maputo, Moçambique, Telephone: 800-232-6348, Email: wwp2@cdc.gov.

SUPPLEMENTARY INFORMATION: The single-source award will focus on building institutional capacity of the SPS in Zambezia for program development and planning and strengthening program implementation and oversight of activities related to HIV prevention, care, support, and treatment services funded by PEPFAR in Mozambique.

SPS Zambezia is in a unique position to conduct this work, as it leads all health services within the province of Zambezia. In Mozambique, the governmental public health infrastructure is organized into the central or national entity of the Mozambique Ministry of Health/Ministério da Saúde (MOH/MISAU), the Provincial Health Directorates (DPSs) that implement activities at the primary healthcare level, and the Provincial Health Service (SPS) that lead all health services within the province of Zambezia. The SPSs in Mozambique are government organizations established by law and mandated to plan, coordinate, and supervise all health-related activities at the tertiary and secondary level, including HIV/AIDS activities, within their provincial jurisdiction.

Summary of the Award

Recipient: SPS Zambezia, Mozambique.

Purpose of the Award: The purpose of this award is to strengthen the institutional capacity of SPS Zambezia to plan, coordinate, and supervise HIV-related activities to contribute to accelerated progress towards the 95-95-95 goals and ensure sustainable control of the epidemic in Mozambique.

Amount of Award: The approximate year 1 funding amount will be $2,000,000 in Federal Fiscal Year (FFY) 2022 funds, subject to the availability of funds. Funding amounts for years 2-5 will be set at continuation.

Authority: This program is authorized under Public Law 108-25 (the United States Leadership Against HIV AIDS, Tuberculosis and Malaria Act of 2003).

Period of Performance: September 30, 2022 through September 29, 2027.

Dated: March 2, 2022.
Terrance Perry,
Chief Grants Management Officer, Centers for Disease Control and Prevention.

[FR Doc. 2022-04783 Filed 3-7-22; 8:45 am]

BILLING CODE 4163-18-P